DEPARTMENT OF ENERGY

Federal Energy Regulatory Commission

[Docket No. IC09-576-001]

Commission Information Collection Activities (Ferc-576); Comment Request; Submitted for OMB Review

June 1, 2009.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74 FR 6273, 2/6/09) and has made this notation in its submission to OMB.

DATES: Comments on the collection of information are due by July 8, 2009.

ADDRESSES: Address comments on the collection of information to the Office of Management and Budget, Office of Information and Regulatory Affairs, Attention: Federal Energy Regulatory Commission Desk Officer. Comments to OMB should be filed electronically, c/o oira_submission@omb.eop.gov and include OMB Control No. 1902-0004 as a point of reference. The OMB Desk Officer may be reached by telephone at 202-395-4638.

A copy of the comments should also be sent to the Federal Energy Regulatory Commission and should refer to Docket No. IC09-576-001. Comments may be filed either electronically or in paper format. Those persons filing electronically do not need to make a paper filing. Documents filed electronically via the Internet must be prepared in an acceptable filing format and in compliance with the FERC submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-576-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: The FERC is requesting comments on the FERC-576 (Report of Service Interruptions; OMB Clearance No. 1902-0004). Under the Natural Gas Act (NGA) (Pub. L. 75 688) (15 U.S.C. 717-717w), a natural gas company must obtain Commission authorization to engage in the transportation, sale or exchange of natural gas in interstate commerce. The Commission is also empowered to oversee continuity of service in the transportation of natural gas in interstate commerce. The information collected under FERC-576 notifies the Commission of: (1) Serious interruptions to service, and (2) damage to jurisdictional natural gas facilities due to natural disaster or terrorist activity, that creates the potential for serious delivery problems on the pipeline's own system or the pipeline grid.

Filings in accordance with the provisions of section 4(d) of the Natural Gas Act (NGA) (15 U.S.C. 717c) are to contain information necessary to advise the Commission when a change in service has occurred. Under section 7(d) of the NGA (15 U.S.C. 717f), the Commission may issue a temporary certificate in cases of emergency to assure maintenance of adequate service or to serve particular customers, without notice or hearing.

The FERC-576 initial reports are submitted by e-mail to pipelineoutage@ferc.gov or by facsimile transmission. Title 18 Code of Federal Regulations (CFR) section 260.9(b) requires that a report of service interruption or damage to natural gas facilities state the: (1) Location of the service interruption or damage to natural gas pipeline or storage facilities; (2) nature of any damage to pipeline or storage facilities; (3) specific identification of the facilities damaged; (4) time the service interruption or damage to the facilities occurred; (5) customers affected by the service interruption or damage to the facilities; (6) emergency actions taken to maintain service; and (7) company contact and telephone number. (In response to these reports, the Commission may contact the pipeline to determine the estimated duration of the outage, and if necessary, authorize emergency transportation or re-construction of facilities to alleviate the problem.) The company also reports to the Commission when pipeline throughput or storage deliverability has been restored.

Failure by the Commission to collect this information would mean that it is unable to monitor and evaluate our regulated energy infrastructure, and remain apprised of the critical status of operations and reliability of interstate pipelines.

In coordination with the U.S. Department of Transportation (DOT), FERC has reviewed the pipeline damage reporting requirements. FERC and DOT have concluded that there is minimal duplication between the data collected here and that collected by DOT under 49 CFR 191. The intent, timing, and the information collected serve different needs, and a common reporting form is not appropriate.

Action: The Commission is requesting a three-year extension of the current expiration date, with no change to the existing requirements.

Burden Statement: Annual reporting burden for this collection is estimated as:

FERC Data Collection—FERCt-576 | Number of respondents annually | Number of responses per respondent | Average burden hours per response | Total annual burden hours¹
| (1) | (2) | (3) | (1) × (2) × (3)
Submittal to FERC of the original e-mail and follow-up e-mail ² | 40 | ² 2 | 1 | ² 80
Submittal of damage report to state commissions | 40 | 1 | 0.25 | 10
Submittal to FERC of copy of DOT incident report | 40 | 1 | 0.25 | 10

The estimated cost burden to respondents ³ is $6,307 (100 hours × $63.07 per hour = $6,307).

¹ The burden and cost figures may not be exact, due to rounding. For these calculations, the number of hours an employee works each year is 2,080.

² This includes the original e-mail, plus the follow-up e-mail (sent when throughput or storage deliverability has been restored).

³ Based on the Bureau of Labor Statistics' figures for wage estimates within `NAICS 486200, Pipeline Transportation of Natural Gas' (posted at http://www.bls.gov/oes/2008/may/naics4_486200.htm, for May 2008), the average hourly cost being used for these calculations is $63.07. The total estimated cost burden provided here ($6,307) updates and replaces the estimate (of $6,076.15) provided in the 60-day Notice issued on 1/29/09.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization, rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Kimberly D. Bose,
Secretary.

[FR Doc. E9-13236 Filed 6-5-09; 8:45 am]

BILLING CODE 6717-01-P